DEPARTMENT OF ENERGY

Federal Energy Regulatory Commission

[Project No. 2355-018]

Exelon Generation Company, LLC; Notice of Application Tendered for Filing With the Commission and Deadline for Submission of Final Amendments

Take notice that the following hydroelectric application has been filed with the Commission and is available for public inspection.

a. Type of Application: New Major License

b. Project No.: 2355-018

c. Date Filed: August 29, 2012

d. Applicant: Exelon Generation Company, LLC

e. Name of Project: Muddy Run Pumped Storage Project

f. Location: On Muddy Run, a tributary to the Susquehanna River, in Lancaster and York Counties, Pennsylvania. The project does not occupy any federal lands.

g. Filed Pursuant to: Federal Power Act, 16 USC 791 (a)-825(r)

h. Applicant Contact: Colleen Hicks, Manager, Regulatory and Licensing, Hydro, Exelon Power, 300 Exelon Way, Kennett Square, PA 19348, at (610) 765-6791 or email at Colleen.Hicks@exeloncorp.com and Kathleen Barròn, Vice President, Federal Regulatory Affairs and Wholesale Market Policy, Exelon Corporation, 101 Constitution Avenue, Washington, DC 20001, at (202) 347-7500 or email at Kathleen.Barron2@exeloncorp.com.

i. FERC Contact: Emily Carter, (202) 502-6512 or emily.carter@ferc.gov.

j. This application is not ready for environmental analysis at this time.

k. The Project Description: The Muddy Run Pumped Storage Project consists of four dams. The main dam is a rock-filled structure across the Muddy Run ravine with a central impervious core, a maximum height of approximately 260 feet and a total length of 4,800 feet. The east dike is a zoned-earth and rock-filled embankment with a maximum height of approximately 12 feet and a total length of 800 feet. The recreation pond dike is a zoned-earth and rock-filled embankment with a maximum height of approximately 90 feet and a total length of 750 feet. The canal embankment has a maximum height of approximately 35 feet. Total storage in the 900-acre Muddy Run reservoir (upper reservoir) is approximately 60,000 acre-feet and the total useable storage is approximately 35,500 acre-feet at the maximum pool elevation of 520 feet. The maximum pool elevation is approximately 411 feet above the normal elevation of Conowingo pond. Conowingo pond (lower reservoir) has a surface area of 9,000 acres and design storage of approximately 310,000 acre-feet at the normal full pool elevation of 109.2 feet.

The main spillway is a non-gated concrete ogee-type structure that is 200 feet long, 20 feet high and with crest elevation of 521 feet, which is directed to a vegetated natural ravine. The recreation pond spillway is a rock-cut channel approximately 140 feet wide and with a crest elevation of 520 feet.

The power intake facilities consist of four cylinder gates with trash racks in a cylindrical tower. Each intake supplies two units. Each intake leads to a 430-foot-deep vertical shaft then to a horizontal power tunnel, which divides into two sections. The power tunnel sections transition to a penstock that leads to one of the eight reversible pump-turbine units in the powerhouse. The power plant is constructed of concrete and is 133 feet wide and 600 feet long. It houses eight Francis turbines each equipped with a 100-MW generator. The powerhouse turbines each have a hydraulic capacity of 4,000 cfs, for a total discharge capacity from the powerhouse of 32,000 cfs. The pumping capacity of the pump turbines is 3,500 cfs each for a total powerhouse pumping capability of 28,000 cfs. Water flowing through the turbines is discharged via the draft tubes into the Susquehanna River adjacent to the powerhouse. The units are equipped with trash racks between the draft tube outlet and the river.

Electricity generated at the project is transmitted by two individual 220-kV transmission lines extending from the project switching station approximately 4.25 miles to the Peach Bottom Atomic Power Station (PBAPS) North Substation located in York County.

The Muddy Run Project has an authorized nameplate generating capacity of 800 MW and generates an average of 1,610,611 MWh annually. Exelon is not proposing any new or upgraded facilities or structural changes to the project at this time. Also, Exelon has engaged interested stakeholders to participate in the development of a comprehensive settlement agreement based on collaborative negotiation of specific terms and conditions for the new Muddy Run license.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: A preliminary Hydro Licensing Schedule will be provided in a subsequent notice.

o. Final amendments to the application must be filed with the Commission no later than 30 days from the issuance date of the notice of ready for environmental analysis.

Dated: September 12, 2012.
Kimberly D. Bose,
Secretary.

[FR Doc. 2012-23024 Filed 9-18-12; 8:45 am]

BILLING CODE 6717-01-P